INTERNATIONAL TRADE COMMISSION

[Investigation No. 337-TA-698]

In the Matter of Certain DC-DC Controllers and Products Containing Same; Notice of Commission Decision Not To Review an Initial Determination Terminating The Investigation

AGENCY: U.S. International Trade Commission.

ACTION: Corrected Notice.

SUMMARY: Notice is hereby given that the U.S. International Trade Commission has determined not to review the presiding administrative law judge's initial determination (“ID”) (Order No. 56) granting a joint motion to terminate the investigation as to one respondent and terminating the investigation in its entirety.

FOR FURTHER INFORMATION CONTACT: Sidney A. Rosenzweig, Office of the General Counsel, U.S. International Trade Commission, 500 E Street, SW., Washington, DC 20436, telephone (202) 708-2532. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on December 29, 2009, based on a complaint filed by Richtek Technology Corp. (Taiwan) and Richtek USA, Inc. (San Jose, California) (collectively “Richtek”), alleging a violation of section 337 in the importation, sale for importation, and sale within the United States after importation of certain DC-DC controllers by reason of infringement of certain claims of U.S. Patent Nos. 7,315,190; 6,414,470; and 7,132,717; and by reason of trade secret misappropriation. 75 FR 446 (Jan. 5, 2010). The complaint, as amended, named eight respondents: uPI Semiconductor Corp. (Taiwan) (“uPI”); Advanced Micro Devices, Inc. (Sunnyvale, California) (“AMD”); Sapphire Technology Ltd. (Hong Kong) (“Sapphire”); Best Data Products d/b/a Diamond Multimedia (Chatsworth, California) (“Diamond”); Eastcom, Inc. d/b/a XFX Technology USA (Rowland Heights, California) (“XFX”); Micro-Star International Co., Ltd. (Taiwan) and MSI Computer Corp. (City of Industry, California) (collectively, “MSI”); and VisionTek Products LLC (Inverness, Illinois) (“VisionTek”). See Second Am. Compl. ¶¶ 12-34 (May 20, 2010).

The investigation has been terminated by settlement agreement or consent order against all parties other than VisionTek: On July 12, 2010, the Commission determined not to review the ALJ's termination of the investigation as against AMD, Diamond, and XFX. On August 13, 2010, the Commission determined not to review the ALJ's termination of the investigation against uPI and Sapphire. On August 20, 2010, the Commission determined not to review the ALJ's termination of the investigation against the MSI respondents.

On July 27, 2010, VisionTek and Richtek jointly moved to terminate the investigation based on a consent order stipulation and proposed consent order. The ALJ denied the motion. Order No. 51 (July 29, 2010). On August 5, 2010, VisionTek and Richtek jointly moved to terminate the investigation based on a settlement agreement. On August 17, 2010, the ALJ granted the motion. Order No. 56. Because VisionTek is the last respondent, termination against VisionTek results in termination of the investigation.

No petitions for review of the ID were filed. The Commission has determined not to review the ID.

The authority for the Commission's determination is contained in section 337 of the Tariff Act of 1930, as amended (19 U.S.C. 1337), and in sections 210.21(b) and 210.42 of the Commission's Rules of Practice and Procedure (19 CFR 210.21(b), 210.42).

By order of the Commission.
Issued: October 21, 2010.
Marilyn R. Abbott,
Secretary to the Commission.

[FR Doc. 2010-27024 Filed 10-25-10; 8:45 am]

BILLING CODE 7020-02-P